DEPARTMENT OF ENERGY

Federal Energy Regulatory Commission

Notice of Commission Staff Attendance

The Federal Energy Regulatory Commission hereby gives notice that members of the Commission's staff may attend the following meetings related to the transmission planning activities of the Southwest Power Pool, Inc. (SPP):

Order 1000 Tariff Draft Task Force

July 24, 2012

2:00 p.m.-6:00 p.m. CDT

July 25, 2012

9:30 a.m.-1 p.m. CDT

The above-referenced meetings will be held at:

AEP Offices, 1201 Elm Street, 8th Floor, Dallas, TX 75270.

The above-referenced meetings are open to stakeholders.

Further information may be found at www.spp.org.

The discussions at the meetings described above may address matters at issue in the following proceedings:

Docket No. ER09-35-001, Tallgrass Transmission, LLC

Docket No. ER09-36-001, Prairie Wind Transmission, LLC

Docket No. ER09-548-001, ITC Great Plains, LLC

Docket No. ER11-4105-000, Southwest Power Pool, Inc.

Docket No. EL11-34-001, Midwest Independent Transmission System Operator, Inc.

Docket No. ER12-1179-000, Southwest Power Pool, Inc.

Docket No. ER12-1415-000, Southwest Power Pool, Inc.

Docket No. ER12-1460-000, Southwest Power Pool, Inc.

Docket No. ER12-1610-000, Southwest Power Pool, Inc.

Docket No. ER12-1772-000, Southwest Power Pool, Inc.

Docket No. ER12-2176-000, Southwest Power Pool, Inc.

For more information, contact Luciano Lima, Office of Energy Markets Regulation, Federal Energy Regulatory Commission at (202) 502-6210 or luciano.lima@ferc.gov.

Dated: July 12, 2012.
Kimberly D. Bose,
Secretary.

[FR Doc. 2012-17655 Filed 7-19-12; 8:45 am]

BILLING CODE 6717-01-P